ELECTION ASSISTANCE COMMISSION

Sunshine Act Notice

AGENCY: United States Election Assistance Commission (EAC).

ACTION: Notice of Public Meeting.

DATE AND TIME: Tuesday, December 11, 2007, 9 a.m.-12 Noon (CST).

PLACE: Omni Hotel Downtown, 700 San Jacinto Boulevard at 8th Street, Austin, TX 78701, Phone number (512) 476-3700.

AGENDA: The Commission will consider the following items: Adoption of the 2006 Election Day Survey Report; an amendment to EAC policy on the voting system reports clearinghouse; whether to transfer National Voter Registration Act (NVRA) regulations originally promulgated by the Federal Election Commission to a new Code of Federal Regulations (CFR) site for EAC; individual State requests to change State-specific instructions to the national voter registration form. The Commission will receive end of year report presentations: From the EAC Testing and Certification; Election Administration Support; and Research Divisions and the EAC Executive Director. The Commission will elect officers and consider other administrative matters.

This meeting will be open to the public.

PERSON TO CONTACT FOR INFORMATION: Bryan Whitener, Telephone: (202) 566-3100.

Thomas R. Wilkey,
Executive Director, U.S. Election Assistance Commission.

[FR Doc. 07-5938 Filed 11-30-07; 1:41 pm]

BILLING CODE 6820-KF-M